DEPARTMENT OF HEALTH AND HUMAN SERVICES

42 CFR Part 5

Negotiated Rulemaking Committee on Designation of Medically Underserved Populations and Health Professional Shortage Areas; Notice of Meeting

AGENCY: Health Resources and Services Administration, HHS.

ACTION: Negotiated Rulemaking Committee meeting.

SUMMARY: In accordance with section 10(a)(2) of the Federal Advisory Committee Act (Pub. L. 92-463), notice is hereby given of the following meeting of the Negotiated Rulemaking Committee on Designation of Medically Underserved Populations and Health Professional Shortage Areas.

DATES: Meetings will be held on October 12, 2011, 9:30 a.m. to 6 p.m. and October 13, 2011, 9 a.m. to 6 p.m. All meeting times are Eastern Daylight Time (E.D.T.).

ADDRESSES: Meetings will be held at the Sheraton Suites Old Town Alexandria, 801 North Saint Asaph Street, Alexandria, Virginia 22314; 703-836-4700.

FOR FURTHER INFORMATION CONTACT: For more information, please contact La Crystal McNair, National Center for Health Workforce Analysis, Bureau of Health Professions, Health Resources and Services Administration, Room 9-49, Parklawn Building, 5600 Fishers Lane, Rockville, Maryland 20857, Telephone (301) 443-3578, E-mail: lmcnair@hrsa.gov, or visit http://www.hrsa.gov/advisorycommittees/shortage/.

SUPPLEMENTARY INFORMATION:

Status: The meeting will be open to the public.

Purpose: The purpose of the Negotiated Rulemaking Committee on Designation of Medically Underserved Populations and Health Professional Shortage Areas is to establish criteria and a comprehensive methodology for Designation of Medically Underserved Populations and Primary Care Health Professional Shortage Areas, using a Negotiated Rulemaking (NR) process. It is hoped that use of the NR process will yield a consensus among technical experts and stakeholders on a new rule for designation of medically underserved populations and primary care health professions shortage areas, which would be published as an Interim Final Rule in accordance with Section 5602 of the Affordable Care Act, Public Law 111-148.

Agenda: The meeting will be held on Wednesday, October 12, and Thursday, October 13, 2011. This will be the last meeting of the Committee, and the main purpose will be to review the draft report reflecting their decisions and deliberations prior to this meeting. The meeting will include a review of the major recommendations (regarding new methodologies) for the designation of Health Professional Shortage Areas and Medically Underserved Areas, the justification and support for these decisions, and the approval of the draft report (to be prepared in final discussion of various components) of a possible methodology for identifying areas of shortage and underservice, based on the recommendations of the Committee in the previous meeting. The final agenda will be available on the Committee's Web site: http://www.hrsa.gov/advisorycommittees/shortage/. Agenda items are subject to change as priorities dictate.

Members of the public will have the opportunity to provide comments during the meeting on the afternoon of the last day. Requests from the public, to make oral comments or to provide written comments to the Committee, should be sent to LaCrystal McNair (at the contact address above) at least 10 days prior to the first day of the meeting, Wednesday, October 12, 2011. The meetings will be open to the public as indicated above, with attendance limited to the space available. Individuals who plan to attend and need special assistance, such as sign language interpretation or other reasonable accommodations, should notify the contact person at least 10 days prior to the meeting.

The Committee is working under tight timeframes in order to meet the reporting requirements in the Affordable Care Act. Due to the complexity of the issue, the Committee requested an additional meeting for a final review of the key decisions and draft report prior to its submission to the Secretary by October 31, 2011. The logistical challenges of scheduling an additional meeting after it was requested in August 2011 hindered an earlier publication of this meeting notice.

Dated: September 27, 2011.
Reva Harris,
Acting Director, Division of Policy and Information Coordination.

[FR Doc. 2011-25465 Filed 10-3-11; 8:45 am]

BILLING CODE 4165-15-P